DEPARTMENT OF HEALTH AND HUMAN SERVICES

Administration for Children and Families

Administration on Children, Youth and Families; 2005 Head Start Family Literacy Project; Notice of Correction for the FY 2005 Head Start Family Literacy Project Program Announcement, HHS-2005-ACF-ACYF-YL-0023, CFDA # 93.600

AGENCY: Head Start Bureau, Administration on Children, Youth and Families, Administration for Children and Families, Department of Health and Human Services.

ACTION: Notice of correction.

SUMMARY: This notice is to inform interested parties of a correction made to the Head Start Family Literacy Project program announcement that was published on July 25, 2005. The following correction should be noted:

Under Section IV. Application and Submission Information, 1. Address to Request Application Package, please delete the following phone number for The Dixon Group: 1-800-351-2293.

Please replace the deleted phone number with the following: 1-866-796-1591.

All other information in this notice of correction is accurate and replaces information specified in the July 25 notice. Applications are still due by the deadline date that was published in the July 25 notice (due date for applications is September 8, 2005).

FOR FURTHER INFORMATION CONTACT: For further information please contact the Administration on Children, Youth and Families, Head Start Bureau, Willa Siegel at (202) 205-4011 or WSiegel@acf.hhs.gov.

Dated: July 26, 2005.
Joan E. Ohl,
Commissioner, Administration on Children, Youth and Families.

[FR Doc. 05-15162 Filed 7-29-05; 8:45 am]

BILLING CODE 4184-01-P